ENVIRONMENTAL PROTECTION AGENCY

[FRL-9982-55—Region 8]

Settlement Agreement and Order on Consent: Eagle Mine Superfund Site, Minturn, Eagle County, Colorado

AGENCY: Environmental Protection Agency (EPA).

ACTION: Notice of proposed agreement; request for public comment.

SUMMARY: In accordance with the requirements of section 122 of the Comprehensive Environmental Response, Compensation, and Liability Act of 1980, as amended (“CERCLA”), notice is hereby given of the proposed settlement under section 122(h)(1) of CERCLA, between the U.S. Environmental Protection Agency (“EPA”), the Colorado Department of Public Health and Environment (“CDPHE”), and Battle North, LLC and Battle South, LLC (“Owners”). The proposed Settlement Agreement provides for the performance of work by Owners, the payment of certain response costs incurred, or to be incurred, by the United States, and the release and waiver of a lien at or in connection with the Property. The Owners consent to and will not contest the authority of the United States to enter into the Agreement or to implement or enforce its terms. CDPHE and Owners recognize that the Agreement has been negotiated in good faith and that the Agreement is entered into without the admission or adjudication of any issue of fact or law.

DATES: Comments must be submitted on or before September 20, 2018. For thirty (30) days following the date of publication of this notice, the Agency will receive written comments relating to the agreement. The Agency will consider all comments received and may modify or withdraw its consent to the agreement if comments received disclose facts or considerations that indicate that the agreement is inappropriate, improper, or inadequate.

ADDRESSES: The proposed agreement and additional background information relating to the agreement, as well as the Agency's response to any comments are or will be available for public inspection at the EPA Superfund Record Center, 1595 Wynkoop Street, Denver, Colorado, by appointment. Comments and requests for a copy of the proposed agreement should be addressed to Matt Hogue, Enforcement Specialist, Environmental Protection Agency—Region 8, Mail Code 8ENF-RC, 1595 Wynkoop Street, Denver, Colorado 80202-1129, and should reference the Eagle Mine Superfund Site.

FOR FURTHER INFORMATION CONTACT: Kayleen Castelli, Enforcement Attorney, Legal Enforcement Program, Environmental Protection Agency—Region 8, Mail Code 8ENF-L, 1595 Wynkoop Street, Denver, Colorado 80202, (303) 312-6174.

Dated: August 1, 2018.
Suzanne Bohan,
Assistant Regional Administrator, Office of Enforcement, Compliance and Environmental Justice, U.S. Environmental Protection Agency, Region VIII.

[FR Doc. 2018-18033 Filed 8-20-18; 8:45 am]

BILLING CODE 6560-50-P